DEPARTMENT OF DEFENSE

Department of the Air Force

Intent To Grant an Exclusive Patent License

Pursuant to the provisions of Part 404 of Title 37, Code of Federal Regulations, which implements Public Law 96-517, as amended; the Department of the Air Force announces its intention to grant Laerdal Medical Corporation, a corporation of the State of New York, having a place of business at 167 Myers Corners Road, Wappingers Falls, New York, an exclusive license limited to the field of web-based Basic Life Support training (per American Heart Association protocol) for all subscription users in any right, title and interest the Air Force has in:

U.S. Patent No. 8,568,145, to be issued October 29, 2013, entitled “Predictive Performance Optimizer,” by Jastrzembski et al. and pending U.S. Application Serial No. 13/854,288, filed April 1, 2013, entitled “Predictive Performance Optimizer,” by Jastrzembski et al.

The Air Force intends to grant a license for the patent and pending application unless a written objection is received within fifteen (15) calendar days from the date of publication of this Notice. Written objection should be sent to: Air Force Materiel Command Law Office, AFMCLO/JAZ, 2240 B Street, Rm. D-14, Wright-Patterson AFB, OH 45433-7109; Facsimile: (937) 255-3733.

Henry Williams Jr.,
Acting Air Force Federal Register Liaison Officer.

[FR Doc. 2014-01012 Filed 1-17-14; 8:45 am]

BILLING CODE P